DEPARTMENT OF COMMERCE

National Oceanic and Atmospheric Administration

Fisheries of the South Atlantic; South Atlantic Fishery Management Council; Public Meetings

AGENCY: National Marine Fisheries Service (NMFS), National Oceanic and Atmospheric Administration (NOAA), Commerce.

ACTION: Notice of a public meeting and public workshop.

SUMMARY: The South Atlantic Fishery Management Council (Council) will hold a meeting of Marine Protected Area (MPA) Expert Workgroup and Public MPA Workshop in Pooler, GA. See SUPPLEMENTARY INFORMATION.

DATES: The Expert Workgroup meeting will take place May 16-17, 2012. The public workshop will take place May 16, 2012. See SUPPLEMENTARY INFORMATION.

ADDRESSES: The meetings will be held at the Mighty Eighth Air Force Museum, 175 Bourne Avenue, Pooler, GA 31322; telephone: (912) 748-8888; fax: (912) 748-0209.

Council address: South Atlantic Fishery Management Council, 4055 Faber Place Drive, Suite 201, N. Charleston, SC, 29405.

FOR FURTHER INFORMATION CONTACT: Kim Iverson, Public Information Officer, South Atlantic Fishery Management Council, 4055 Faber Place Drive, Suite 201, N. Charleston, SC, 29405; telephone: (843) 571-4366 or toll free: (866) SAFMC-10; fax: (843) 769-4520; email: kim.iverson@safmc.net.

SUPPLEMENTARY INFORMATION: Members of the Marine Protected Area Expert Workgroup will meet from 1 p.m.-5 p.m. on May 16, 2012 and from 8:30 a.m. until 1 p.m. on May 17, 2012. The group of experts, including scientists and fishermen, will provide input on using MPAs to help address bycatch mortality of speckled hind and warsaw grouper. Selection of participants was based on knowledge and expertise of these two species, their habitat, and/or the fishery. Public input on data for the Expert Workgroup to consider will be taken from 5 p.m. until 5:30 p.m. on May 16, 2012.

The Marine Protected Area Public Workshop will begin at 6 p.m. on May 16, 2012. The workshop is part of a series of workshops being held to give the public the opportunity to provide data on locations of speckled hind and warsaw grouper, as well as important habitat locations for these two species. The Council will consider input from the workgroup and workshops during its June meeting in Orlando, FL.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Dated: April 24, 2012.
Tracey L. Thompson,
Acting Director, Office of Sustainable Fisheries, National Marine Fisheries Service.

[FR Doc. 2012-10153 Filed 4-26-12; 8:45 am]

BILLING CODE 3510-22-P